UNITED STATES INSTITUTE OF PEACE

Notice of Meeting

AGENCY: United States Institute of Peace.

DATES: Date/Time: Friday, April 19, 2013 (9:00 a.m.-3:00 p.m.).

Location: 2301 Constitution Avenue NW., Washington, DC 20037.

Status: Open Session—Portions may be closed pursuant to Subsection (c) of Section 552(b) of Title 5, United States Code, as provided in subsection 1706(h)(3) of the United States Institute of Peace Act, Public Law 98-525.

Agenda: April 19, 2013 Board Meeting; Approval of Minutes of the One Hundred Forty-Sixth Meeting (January 24, 2013) of the Board of Directors; Chairman's Report; President's Report; Status Reports; Congressional Overview; Strategic Plan; Board Executive Session; Other General Issues.

Contact: Tessie F. Higgs, Executive Office, Telephone: (202) 429-3836.

Dated: April 3, 2013.
Michael Graham,
Senior Vice President for Management, United States Institute of Peace.

[FR Doc. 2013-08152 Filed 4-8-13; 8:45 am]

BILLING CODE 6820-AR-P